SECURITIES AND EXCHANGE COMMISSION

[File No. 500-1]

In the Matter of International Hi-Tech Industries Inc., Mark One Global Industries, Inc., Nortel Networks Corporation, and Silverado Gold Mines Ltd.; Order of Suspension of Trading

July 8, 2015.

It appears to the Securities and Exchange Commission that there is a lack of current and accurate information concerning the securities of International Hi-Tech Industries Inc. (CIK No. 921887) (“IHITF” ¹), a Canadian corporation with its principal place of business in Vancouver, British Columbia, Canada, with stock quoted on OTC Link (previously, “Pink Sheets”) operated by OTC Markets Group Inc. (“OTC Link”) because it has not filed any periodic reports since the period ended December 31, 2005. On June 28, 2013, the Division of Corporation Finance (“Corporation Finance”) sent a delinquency letter to IHITF requesting compliance with its periodic reporting obligations at the address shown in its then-most recent filing with the Commission, but IHITF did not receive the delinquency letter due to its failure to maintain a valid address on file with the Commission as required by Commission rules (Rule 301 of Regulation S-T, 17 CFR 232.301 and Section 5.4 of the EDGAR Filer Manual).

¹ The short form of each issuer's name is also its ticker symbol.

It appears to the Securities and Exchange Commission that there is a lack of current and accurate information concerning the securities of Mark One Global Industries, Inc. (CIK No. 1000791) (“MKGLF”), a British Columbia corporation with its principal place of business in Olathe, Kansas, with stock quoted on OTC Link, because it has not filed any periodic reports since the period ended December 31, 2009. On April 29, 2013, Corporation Finance sent a delinquency letter to MKGLF requesting compliance with its periodic reporting obligations at the address shown in its then-most recent filing with the Commission, but MKGLF did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of Nortel Networks Corporation (CIK No. 72911) (“NRTLQ”), a Canadian corporation with its principal place of business in Mississauga, Ontario, Canada, with stock quoted on OTC Link, because it has not filed any periodic reports since the period ended June 30, 2012. On October 17, 2014, Corporation Finance sent a delinquency letter to NRTLQ requesting compliance with its periodic reporting obligations at the address shown in its then-most recent filing with the Commission which was delivered.

It appears to the Securities and Exchange Commission that there is a lack of current and accurate information concerning the securities of Silverado Gold Mines Ltd. (CIK No. 731727) (“SLGLF”), a defaulted British Columbia corporation with its principal place of business in Surrey, British Columbia, Canada, with stock quoted on OTC Link, because it has not filed any periodic reports since the period ended August 31, 2011. On September 13, 2013, Corporation Finance sent a delinquency letter to SLGLF requesting compliance with its periodic reporting obligations at the address shown in its then-most recent filing with the Commission which was delivered.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 8, 2015, through 11:59 p.m. EDT on July 21, 2015.

By the Commission.
Jill M. Peterson,
Assistant Secretary.

[FR Doc. 2015-17015 Filed 7-8-15; 11:15 am]

BILLING CODE 8011-01-P